DEPARTMENT OF HEALTH AND HUMAN SERVICES

Centers for Disease Control and Prevention and Agency for Toxic Substance and Disease Registry

Meeting; Correction

The Office of the Director of the Centers for Disease Control and Prevention (CDC) and Agency for Toxic Substance and Disease Registry (ATSDR) announces the following correction.

ACTION: Notice; correction.

SUMMARY: In accordance with Departmental policy on consultation with(AI/AN) Governments and Organizations, CDC/ATSDR will host this meeting to give AI/AN people an opportunity to present their public health program needs and priorities. The timing of this meeting will allow CDC and ATSDR to consider these needs and priorities in developing the FY 2002 budget request.

Correction

In the Federal Register of January 31, 2001, (Volume 66, Number 21) [Notices] Page 8404—“Contact Person for More Information” email: Sgerger@cdc.gov—should read agerber@cdc.gov.

The Director, Management Analysis and Services office has been delegated the authority to sign Federal Register notices pertaining to announcements of meetings and other committee management activities, for both the Centers for Disease Control and Prevention and the Agency for Toxic Substances and Disease Registry.

Dated: February 2, 2001.
Carolyn J. Russell,
Director, Management Analysis and Services Office, Centers for Disease Control and Prevention.

[FR Doc. 01-3483 Filed 2-9-01; 8:45 am]

BILLING CODE 4160-19-P